DEPARTMENT OF AGRICULTURE

Forest Service

Okanogan-Wenatchee National Forest, Washington; Motorized Travel Management

AGENCY: Forest Service, USDA.

ACTION: Notice of intent to prepare an environmental impact statement.

SUMMARY: The Forest Supervisor of the Okanogan-Wenatchee National Forest (OWNF) gives notice of the intent to prepare an Environmental Impact Statement (EIS) on a Proposed Action to implement 36 CFR Parts 212, 251, 261, and 295; Travel Management: Designated Routes and Areas for Motor Vehicle Use; Final Rule (Travel Management Rule) to designate a system of roads, trails, and areas that are open to motor vehicle use. Creating a new motor vehicle travel plan is necessary to improve management and enforcement of off-highway vehicle (OHV) travel policy on the Forest. Existing travel rules that were established in the current Forest Plans did not anticipate the rapid increase in off-highway vehicle use or the types of user conflicts and resource impacts that have occurred in recent years. This notice announces the beginning of scoping, describes the specific elements to be included in a new travel plan, describes the decisions to be made, and estimates the dates for filing the draft and final EIS. This notice also provides information concerning public participation, and the names and addresses of the agency officials who can provide information.

DATES: Comments concerning the scope of the analysis should be received by May 7, 2009 so they can be fully considered. The draft environmental impact statement is scheduled for completion by December 2009. The final EIS is scheduled to be completed by July 2010.

ADDRESSES: Submit written comments to: Travel Management Planning Team, Okanogan-Wenatchee National Forest, 215 Melody Lane, Wenatchee, Washington, 98801. Electronic comments may be sent to: OkaWen-Travel-Management@fs.fed.us.

It is important that reviewers provide their comments at such times and in such a way that they are useful to the agency's preparation of the EIS. Therefore, comments should be provided prior to the close of the comment period and should clearly articulate the reviewer's concerns and contentions. The submission of timely and specific comments can affect a reviewer's ability to participate in subsequent administrative review or judicial review.

Comments received in response to this solicitation, including names and addresses of those who comment, will be part of the public record for this proposed action. Comments submitted anonymously will be accepted and considered; however, anonymous comments will not provide the respondent with standing to participate in subsequent administrative review or judicial review.

FOR FURTHER INFORMATION CONTACT: Questions about the proposed action may be directed to Bob Stoehr, Planning Team Leader at Okanogan-Wenatchee National Forest, 215 Melody Lane, Wenatchee, Washington, 98801; or by telephone: (509) 664-9384.

Individuals who use telecommunication devices for the deaf (TDD) may call the Federal Information Relay Service (FIRS) at 1-800-877-8339 between 8 a.m. and 8 p.m., Eastern Time, Monday through Friday.

SUPPLEMENTARY INFORMATION:

Purpose and Need for Action

The magnitude and intensity of motor vehicle use have increased to the point where currently unrestricted cross-country motor vehicle use is no longer able to protect resources. Unmanaged off-highway vehicle (OHV) use has resulted in unplanned roads and trails, erosion, watershed and habitat degradation, and impacts to cultural resource sites. Compaction and erosion are the primary effects of OHV use on soils. Riparian areas and aquatic-dependent species are particularly vulnerable to OHV use. In addition, some national forest visitors report their ability to enjoy quiet recreational experiences is affected by visitors using motor vehicles, resulting in user conflicts. Current regulations prohibit trail construction and operation of vehicles in a manner damaging to the land, vegetation or wildlife. However, these regulations have not proven sufficient to control proliferation of routes or environmental damage.

On November 9, 2005 the Forest Service published final travel management regulations in the Federal Register (FR Vol. 70, No. 216, Nov. 9, 2005, pp 68264-68291). This final Travel Management Rule requires designation of roads, trails and areas that are open to motor vehicle use on National Forest System lands. Designations will be made by class of vehicle and, if appropriate, by time of year. Motor vehicle use off designated roads and trails and outside designated areas would then be prohibited by 36 CFR 261.13. The rule was adopted because of a number of resource and social concerns related to motorized travel that were detailed in the rule.

The following needs have been identified for this proposal:

1. There is a need to designate a sustainable system of roads, trails and areas open to motor vehicles (except winter over-the-snow use) that will provide legal public access, enhance regulation of unmanaged motor vehicle travel, protect resources, and decrease motorized conflicts on national forest system lands. This project will not analyze or make any changes to current winter over-the-snow motorized use.

2. There is a need to change the National Forest System of roads and trails to designate motor vehicle route access to dispersed recreation activities and to designate corridors for motorized access to dispersed camping. Some dispersed recreation activities (e.g. camping, fishing, horseback riding) depend on motor vehicle access. Those activities are often accessed by short spurs that have been created by the passage of motor vehicles. Many such unauthorized “user-created” routes are not part of the national forest transportation system. If these access routes are not added to the transportation system and designated on the motor vehicle use map, or if corridors for motorized accesss to dispersed camping are not designated, regulatory changes noted above would prohibit use of these routes and preclude motor vehicle access to many dispersed recreation activities.

3. There is a need to provide diverse motor vehicle recreation opportunities, such as for 4x4 vehicles, motorcycles, ATVs and passenger cars. There is also a need to provide opportunities for OHVs operated by both licensed and unlicensed drivers. Part of this diversity includes designating a system of reasonably safe “motorized mixed use” national forest roads that recognizes Washington state law that allows for non-highway legal OHVs and unlicensed operators. Currently, there is a small number of specific roads authorized ofr motorized mixed use. State law provides for the operation of OHVs on non-highway roads on the national forest if the Forest Service authorizes such use. This “motorized mixed use” allows concurrent use of a road by highway legal and non-highway legal vehicles.

4. Current language in the Okanogan National Forest Land and Resource Management Plan (1989) and the Wenatchee National Forest Land and Resource Management Plan (1990) (Forest Plans) needs to be amended by deleting forest plan standards and gudelines that are not consistent with the Travel Management Rule.

It will be a benefit for the Forest Service and public to have greater certainty about which roads and trails are part of the managed system of motorized and non-motorized routes. Greater certainty will be provided by improved ability to prioritize and budget for road and trail maintenance and to evaluate public safety hazards; improved ability to focus on how and where to sustain and improve motorized and non-motorized recreation opportunities on the Okanogan-Wenatchee National Forest; improved ability to coordinate public access across different land ownerships; improved public understanding and adherence to travel rules, thus reducing the development of user-created routes; and improved ability to reduce mortorized route and use impacts to other resources values and Forest users.

Proposed Action

Based on the purpose and need for action and as a result of the recent travel analysis process which the Okanogan-Wenatchee National Forest began in 2006, the OWNF proposes the following changes to motor vehicle use on specific roads, trails and areas within the non-wilderness portion of the Forest. The proposed action will:

1. Designate a system of roads, trails and areas open for motor vehicle use by vehicle class and season of use.

2. Designate corridors and motorized routes for access to dispersed recreation.

3. Designate roads for motorized mixed use.

4. Amend the Okanogan Forest Plan and the Wenatchee Forest Plan to designate roads, trails and areas open to motor vehicle use and prohibit motorized travel off designated routes.

This proposed action is a starting point for discussions concerning travel management on the OWNF, and alternatives to the proposed action will be developed based on concerns raised by the public during scoping. Details of the proposed action follow.

1. The designation of 22.4 miles of new or currently unauthorized motorized trails to the National Forest System (NFS) of motorized trails and two areas open to motorized cross-country travel.

2. The designation of motorized use by OHVs only on 115 miles of NFS roads that are currently managed as closed to highway legal vehicles.

3. The designation of 498.2 miles of NFS roads for motorized mixed use.

4. The designation of 1,674 access routes on the NFS of roads and trails to allow motorized vehicle access to dispersed recreation.

5. The designation of 698 miles of corridors (300 feet on each side of the road centerline) along NFS roads to allow motorized access to dispersed camping.

6. Once a system of roads, trails, and areas is designated as open to motor vehicles, then motor vehicle use off the system would be prohibited by regulation (36 CFR 261.13).

The proposed action does not analyze, restrict, nor make any changes to the management of motorized winter over snow recreation. The following uses are exempted by the Travel Management Rule and from the proposed motor vehicle use designations:

1. Aircraft;

2. Watercraft;

3. Over-snow vehicles;

4. Limited administrative use by the Forest Service;

5. Use of any fire, military, emergency, or law enforcement vehicle for emergency purposes;

6. Authorized use of any combat or combat support vehicle for national defense purposes;

7. Law enforcement response to violations of law, including pursuit; and

8. Motor vehicle use that is specifically authorized under a written authorization under Federal law or regulations.

When a decision on the travel management proposal is made, the OWNF will produce a motor vehicle use map (MVUM) depicting roads, trails, and areas that are open to public motorized travel. The MVUM would be the primary tool used to determine compliance and enforcement with motor vehicle use designations on the ground. Currently, motorized travel on the OWNF is permitted unless designated closed. Following the decision and publication of the MVUM, motorized travel on the OWNF would be closed unless designated open.

Additional details and a full description of the proposed action can be found on the Internet at http://www.fs.fed.us/r6/okawen/travel-management. In addition, maps and details will be available for viewing at Forest Service offices in Republic, Tonasket, Okanogan, Winthrop, Chelan, Entiat, Wenatchee, Leavenworth, Cle Elum, Naches, and North Bend, Washington. Maps will also be available for viewing at public libraries in Tonasket, Omak, Okanogan, Twisp, Winthrop, Chelan, Entiat, Wenatchee, Cashmere, Leavenworth, Cle Elum, Ellensburg, Naches, Tieton, Selah and Yakima, Washington.

Possible Alternatives

A full range of alternatives will be considered, including the proposed action, no action, and additional alternatives that respond to issues generated during the scoping process. The no action alternative would maintain current allowances and restrictions for OHV use and motorized cross-country travel described in the current Okanogan and Wenatchee National Forest Plans and Okanogan National Forest Travel Plan. All alternatives would comply with the Okanogan and Wenatchee National Forest Plans.

Lead Agency

The Forest Service will be the lead agency in accordance with 40 CFR 1501.5(b), and is responsible for preparation of the environmental impact statement (EIS).

Responsible Official

The Forest Supervisor for the Okanogan-Wenatchee National Forest, Rebecca Lockett Heath, will be the responsible official for this EIS and its Record of Decision. As the Responsible Official, the Forest Supervisor will document the decision and reasons for the decision in the Record of Decision. That decision will be subject to Forest Service Appeal Regulations (36 CFR Part 215).

Nature of the Decision To Be Made

The Responsible Official will decide whether to adopt and implement the proposed action, an alternative to the proposed action, or take no action to:

1. Designate where and under what conditions motor vehicles can be used on specific roads, trails and areas.

2. Designate where and under what conditions motorized access for dispersed recreation would be allowed.

3. Designate where and under what conditions motorized mixed use would be allowed on NFS roads.

4. Determine whether or under what conditions to amend the Forest Plans.

Preliminary Issues

Preliminary issues identified during the earlier public involvement process include the following:

1. Motorized use on specific roads and trails may affect: Wildlife (in particular grizzly bear and other focal species potentially affected by travel corridor disturbance), soil erosion (compaction and sedimentation), fish and aquatics species (sedimentation), and riparian habitat;

2. Motorized use on specific roads or trails may cause social conflicts between different recreational user groups;

3. Mixed motorized use on National Forest System roads may affect the safety of all users;

4. Motorized use on specific roads and trails may affect the resources and noise level on adjacent private land.

Scoping Process

This notice of intent (NOI) initiates the scoping process, which guides development of the environmental impact statement.

The OWNF held 13 public meetings in central Washington and in the Seattle, Washington area in 2006 and 2007 to help develop the proposed action. These meetings were used to identify potential issues and potential components of the proposed action.

The Forest Supervisor is seeking public and agency comment on the proposed action to identify issues that arise from the proposed action. These issues may lead to other alternatives, or additional mitigation measures and monitoring requirements.

Comments are most valuable if they are site-specific. Comments about existing or proposed conditions on individual routes, desired motorized or non-motorized recreation opportunities, uses and impacts, and route designations are being sought.

Public meetings to explain and gather comments about the proposed action will be held at the following locations and dates from 5 p.m. until 8:30 p.m.:

Ellensburg, WA, April 6, Hal Holmes Community Center.

Yakima, WA, April 7, Howard Johnson Ballroom.

Cashmere, WA, April 8, Apple Annie Antique Gallery.

Okanogan, WA, April 9, Okanogan County Agriplex.

Seattle, WA area: To be announced and posted on the Travel Management Web site (http://www.fs.fed.us/r6/okawen/travel-management).

Early Notice of Importance of Public Participation in Subsequent Environmental Review

A draft environmental impact statement will be prepared for comment. The comment period on the draft EIS will be 45 days from the date the Environmental Protection Agency publishes the notice of availability in the Federal Register. The draft EIS is expected to be filed with the Environmental Protection Agency (EPA) and to be available for public review in December 2009. The final EIS is expected to be completed by July 2010.

To assist the Forest Service in identifying and considering issues and concerns about the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points.

Dated: March 18, 2009.
Rebecca Lockett Heath,
Forest Supervisor.

[FR Doc. E9-6385 Filed 3-23-09; 8:45 am]

BILLING CODE 3410-11-P